DEPARTMENT OF JUSTICE

Notice of Lodging of Consent Decree Under the Clean Air Act

Notice is hereby given that on September 30, 2010, a proposed Consent Decree in United States v. BP Products North America Inc, (Civil No. 4:10-cv-3569), was lodged with the United States District Court for the Southern District of Texas.

This settlement relates to BP Products North America Inc.'s (“BP Products”) petroleum refinery located in Texas City, Texas (the “Texas City Refinery”).

The United States alleges civil claims against BP Products for violations at the Texas City Refinery of Clean Air Act (“CAA”) Section 112(r) and the Chemical Accident Prevention Provisions promulgated at 40 CFR part 68. The United States' CAA claims, which are stated in a Complaint also filed on September 30, 2010 in the above-referenced matter, arise from three events—two fires and a leak of regulated substances—at the Texas City Refinery. The Complaint also alleges violations of Part 68 reporting requirements.

Under the proposed Consent Decree, BP Products will pay a civil penalty to the United States in the amount of $15 million. The Consent Decree also requires BP Products to regularly report to EPA on indicators of process safety at the Texas City Refinery, including: (1) The status of equipment inspections, (2) whether operations employees have received process safety training, and (3) whether additional accidental releases of regulated substances have occurred at the Texas City Refinery.

The Department of Justice will receive comments relating to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. BP Products North America Inc., Civil Action No. 4:10-cv-3569 (S.D. Tex.), and D.J. Ref. 90-5-2-1-08741.

The Consent Decree may be examined at the Office of the United States Attorney, Southern District of Texas, 919 Milam, Suite 1500, Houston, TX 77208 and at U.S. EPA Region 6, 1445 Ross Avenue, Dallas, Texas 75202. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy by mail, from the Consent Decree Library, please enclose a check in the amount of $8.50 (25 cents per page reproduction cost) for the Consent Decree payable to the U.S. Treasury.

Maureen L. Katz,
Assistant Chief, Environmental Enforcement Section, Environment and Natural Resources Division.

[FR Doc. 2010-25520 Filed 10-8-10; 8:45 am]

BILLING CODE 4410-15-P